DEPARTMENT OF JUSTICE

Notice of a 15-Day Extension of Comment Period With Respect to the Agreed Amendment to the Consent Decree Providing for Remedial Actions at Neal's Landfill, Lemon Lane Landfill and Bennett's Dump and Addressing General Matters Under the Comprehensive Environmental Response, Compensation and Liability Act

Notice is hereby given that the United States is extending the public comment period with respect to the proposed Amendment to the Consent Decree Providing for Remedial Actions at Neal's Landfill, Lemon Lane Landfill and Bennett's Dump and Addressing General Matters (“Amendment”), which was lodged with the United States District Court for the Southern District of Indiana on February 19, 2006 in the matter of United States of America et al., v. CBS Corporation, Civil Action No. 1:81-cv-0448-RLY-KPF.

The terms of the proposed Amendment are described in a notice published in the Federal Register on Tuesday, February 26, 2008, 73 FR 10,286-01. That notice provided an opportunity for submission of public comments for a 30-day period that ended on Thursday, March 27, 2008. In response to requests from the public, however, the United States is now giving notice that it will receive for an additional period of fifteen (15) days from the date of this publication comments relating to the proposed Amendment. Comments should be addressed to the Assistant Attorney General, Environment and Natural Resources Division, and either emailed to pubcomment-ees.enrd@usdoj.gov or mailed to P.O. Box 7611, U.S. Department of Justice, Washington, DC 20044-7611, and should refer to United States of America et al., v. CBS Corporation, D.J. Ref. 90-7-1-212A.

The Amendment may be examined at the Office of the United States Attorney, 10 W. Market St., Suite 2100, Indianapolis, IN 46204, and at U.S. EPA Region V, 77 West Jackson Blvd., Chicago, IL 60604-3590. During the public comment period, the Amendment may also be examined on the following Department of Justice Web site, to http://www.usdoj.gov/enrd/Consent_Decrees.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $207.25 (25 cents per page reproduction cost) payable to the U.S. Treasury or, if by e-mail or fax, forward a check in that amount to the Consent Decree Library at the stated address. In requesting a copy exclusive of appendices, please enclose a check in the amount of $17.75 (25 cents per page reproduction cost) payable to the U.S. Treasury.

Maureen Katz,
Assistant Chief, Environmental Enforcement Section, Environment and Natural Resources Division.

[FR Doc. E8-7280 Filed 4-7-08; 8:45 am]

BILLING CODE 4410-15-P